FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at www.ffiec.gov/nic/.

Unless otherwise noted, comments regarding each of these applications must be received at the Reserve Bank indicated or the offices of the Board of Governors not later than May 12, 2008.

A. Federal Reserve Bank of Chicago (Burl Thornton, Assistant Vice President) 230 South LaSalle Street, Chicago, Illinois 60690-1414:

1. Dart Financial Corporation, Mason, Michigan; to become a bank holding company by acquiring 100 percent of the voting shares of The Dart Bank, Mason, Michigan.

2. Black River BancVenture, Inc., Memphis, Tennessee; Spence Limited, L.P., Nashville, Tennessee; and Financial Junk, L.L.C., Nashville, Tennessee; to each acquire 22 percent of the voting shares of Alliant Bank, Sedgwick, Kansas; 9 percent of the voting shares of Farmers Savings Bank, Keota, Iowa; 20 percent of the voting shares of Gorham State Bank, Gorham, Kansas; 10 percent of the voting shares of Greensburg State Bank, Greensburg, Kansas; 8 percent of the voting shares of Kansas State Bank, Overbrook, Kansas; 15 percent of the voting shares of Leonardville State Bank, Leonardville, Kansas; 8 percent of the voting shares of Marquette Farmers State Bank, Marquette, Kansas; and 19 percent of the voting shares of Community Shores Bank Corporation, Muskegon, Michigan, and thereby indirectly acquire voting shares of Community Shores Bank, Muskegon, Michigan; 15 percent of the voting shares of Allegiance Bank of North America, Bala Cynwyd, Pennsylvania; 15 percent of the voting shares of Bay Commercial Bank, Walnut Creek, California; 9.90 percent of the voting shares of Cornerstone Bank, Moorestown, New Jersey.

Applicants also have applied to acquire 6 percent of the voting shares of SFB Bancorp, Inc., Elizabethon, Tennessee, and indirectly acquire Security Federal Bank, Elizabethon, Tennessee, and thereby engage in operating a savings association, pursuant to section 225.28(b)(4)(ii), and 9.9 percent of the voting shares of Quaint Oak Bancorp, Southampton, Pennsylvania, and indirectly acquire Quaint Oak Bank, Southampton, Pennsylvania, and thereby engage in operating a savings association, pursuant to section 225.28(b)(4)(ii) of Regulation Y.

3. Spence Limited, L.P., Nashville, Tennessee, and Financial Junk, L.L.C., Nashville, Tennesse, to become bank holding companies by acquiring 48 percent of the voting shares of Michigan Community Bancorp, Ltd., and thereby indirectly acquire Lakeside Community Bank, both of Sterling Heights, Michigan.

B. Federal Reserve Bank of Kansas City (Todd Offenbacker, Assistant Vice President) 1 Memorial Drive, Kansas City, Missouri 64198-0001:

1. First Financial Bancshares, Inc., Lawrence, Kansas; to acquire 100 percent of the voting shares of Great American Bank, De Soto, Kansas.

Board of Governors of the Federal Reserve System, April 11, 2008.
Robert deV. Frierson,
Deputy Secretary of the Board.

[FR Doc. E8-8112 Filed 4-15-08; 8:45 am]

BILLING CODE 6210-01-S